DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, Palo Comado Canyon Road Interchange, along U.S. 101 from postmile 33.0 to 34.4 in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 28, 2013. If the Federal law that authorizes judicial review of a claim provides a time period of less than 150 days for filing such claim, then that shorter time period still applies.

FOR FURTHER INFORMATION CONTACT: For Caltrans: Carlos J. Montez, Environmental Branch Chief, California Department of Transportation, 100 S. Main St., Los Angeles, CA 90012, Regular Office Hours 8:00am-5:00pm, Telephone Number (213) 897-9116, Email carlos.montez@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: The U.S. 101/Palo Comado Canyon Road Interchange Project in the City of Agoura Hills would widen Palo Comado Canyon Road from two to four lanes between Driver Ave. and Chesebro Road. It would be widened from one lane in each direction to provide two lanes in each direction, along with a dedicated left-hand turn lane, for a total of five striped lanes. A Class II bike lane and sidewalks would be provided on both sides of the overcrossing. The project would take approximately 15 months to construct. The purpose of the project is to reduce congestion within the project limits, improve safety at this interchange, and accommodate pedestrian and bicycle traffic along Palo Comado Canyon Road. The actions by the Federal agencies, and the laws under which such actions were taken, are described in the Environmental Assessment (EA) for the project, approved on January 12, 2012 and in the FHWA Mitigated Negative Declaration (MND) issued on November 15, 2012 and in other documents in the FHWA project records. The EA, MND, and other project records are available by contacting Caltrans at the address provided above. The Caltrans EA and MND can be viewed and downloaded from the project Web site at http://www.dot.ca.gov/dist07/resources/envdocs/ or viewed at public libraries in the project area.

This notice applies to all Federal agency decisions as of the issuance date of this notice and all laws under which such actions were taken, including but not limited to:

1. National Environmental Policy Act (NEPA)

2. Safe, Accountable, Flexible and Efficient, Transportation Equity Act, A Legacy for Users (SAFETEA-LU)

3. MAP 21—Moving Ahead for Progress in the 21st Century

4. Title VI of the Civil Rights Act of 1964

5. National Historic Preservation Act of 1966

6. Executive Order 12898, Federal Actions to Address Environmental Justice in Minority Populations and Low-Income Populations

7. Section 4(f) of the Transportation Act of 1966

(Catalog of Federal Domestic Assistance Program Number 20.205, Highway Planning and Construction. The regulations implementing Executive Order 12372 regarding intergovernmental consultation on Federal programs and activities apply to this program.)

Authority: 23 U.S.C. 139(l)(1).

Dated: February 20, 2013.
Matthew Schmitz,
Director, State Programs, Federal Highway Administration, Sacramento, California.

[FR Doc. 2013-04643 Filed 2-27-13; 8:45 am]

BILLING CODE 4910-RY-P